DEPARTMENT OF DEFENSE

Department of the Air Force

Proposed Collection; Comment Request

AGENCY: Air Force Institute for Environment, Safety & Occupational Health Risk Analysis (AFIERA), DOD.

ACTION: Notice.

In compliance with Section 3506(c)(2)(A) of the Paperwork Reduction Act of 1995, the Air Force Institute for Environment, Safety & Occupational Health Risk Analysis announces the proposed public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms or information technology.

DATES: Consideration will be given to all comments received October 9,2001.

ADDRESSES: Written comments and recommendations on the proposed information collection should be sent to Air Force Institute for Environment, Safety & Occupational Health Risk Analysis, AFIERA/DOS, 2513 Kennedy Circle, Brooks AFB TX 78235.

FOR FURTHER INFORMATION CONTACT: To request more information on this proposed information collection or to obtain a copy of the proposal and associated collection instruments, please write to the above address, or call the Air Force Institute for Environment, Safety & Occupational Health Risk Analysis Information Systems Division at 210-536-2484.

Title: Air Force Institute for Environment, Safety & Occupational Health Risk Analysis Customer Feedback.

Needs and Uses: The Air Force Institute for Environment, Safety & Occupational Health Risk Analysis is requesting feedback from its customers to better serve their needs. Their opinions will help AFIERA to improve its processes which in turn will improve the products and services provided to them.

Affected Public: Individuals (18 years and older) visiting the AFIERA public web-site and voluntarily accessing the link to the feedback form.

Annual Burden Hours: Varies.

Number of Respondents: Unlimited.

Responses Per Respondent: Varies.

Average Burden Per Response: 5 Minutes.

Frequency: As often as customers request.

SUPPLEMENTARY INFORMATION:

Summary of Information Collection

The Air Force Institute for Environment, Safety & Occupational Health Risk Analysis provides a number of products and services to Air Staff, MAJCOM, Air Force bases, Air Force Reserve Units, and Air National Guard units worldwide. These include collecting and analyzing environmental, safety and health data to protect people and the environment, providing scientific and engineering assistance in air and water quality monitoring, hazardous waste identification and disposal, treatment techniques, consultative support in environmental compliance, and supplementary diagnostic testing services. This survey collects customer satisfaction with the products and services and their feelings toward the Air Force Institute for Environment, Safety & Occupational Health Risk Analysis.

Janet A. Long,
Air Force Federal Register Liaison Officer.

[FR Doc. 01-20095 Filed 8-9-01; 8:45 am]

BILLING CODE 3910-01-P